DEPARTMENT OF THE TREASURY

Office of the Comptroller of the Currency

Agency Information Collection Activities: Submission for OMB Review; Comment Request

AGENCY: Office of the Comptroller of the Currency (OCC), Treasury.

ACTION: Submission for OMB review; comment request.

SUMMARY: The OCC, as part of its continuing effort to reduce paperwork and respondent burden, invites the general public and other Federal agencies to take this opportunity to comment on a continuing information collection, as required by the Paperwork Reduction Act of 1995. The OCC may not conduct or sponsor, and a respondent is not required to respond to, an information collection that has been extended, revised, or implemented unless it displays a currently valid Office of Management and Budget (OMB) control number. Currently, the OCC is soliciting comments concerning an extension, without change, of an information collection titled Leasing—12 CFR part 23. The OCC also gives notice that it has sent the information collection to OMB for review.

DATES: You should submit your written comments to both OCC and the OMB Reviewer by August 7, 2000.

ADDRESSES: You should send your written comments to the Communications Division, Attention: 1557-0206, Third Floor, Office of the Comptroller of the Currency, 250 E Street, SW, Washington, DC 20219. In addition, you can send comments by facsimile transmission to (202) 874-5274, or by electronic mail to regs.comments@occ.treas.gov.

FOR FURTHER INFORMATION CONTACT: You may request additional information, a copy of the collection, or a copy of the supporting documentation submitted to OMB by contacting Jessie Dunaway or Camille Dixon, (202) 874-5090, Legislative and Regulatory Activities Division (1557-0206), Office of the Comptroller of the Currency, 250 E Street, SW, Washington, DC 20219.

SUPPLEMENTARY INFORMATION: The OCC is proposing to extend OMB approval of the following information collection:

Title: Leasing—12 CFR part 23.

OMB Number: 1557-0206.

Form Number: None.

Abstract: This submission covers an existing regulation and involves no change to the regulation or to the information collections embodied in the regulation. The OCC requests only that OMB renew its approval of the information collections in the current regulation.

The information requirements in 12 CFR part 23 are located as follows:

12 CFR 23.4(c)—Reporting: A national bank must liquidate or re-lease property that is no longer subject to lease (off-lease property) as soon as practicable, but no later than five years from the lease expiration. A bank wishing to extend that five-year holding period for up to an additional five years must obtain OCC approval. To ensure that a bank is not holding property for speculative reasons, the OCC requires the bank to provide a clearly convincing demonstration why an additional holding period is necessary. This requirement provides flexibility for a bank when it faces unusual and unforeseen conditions under which it would be imprudent to dispose of the off-lease property. As a result, this requirement confers a benefit on national banks and may result in cost savings.

12 CFR 23.4(c)—Recordkeeping: A national bank must value off-lease property at the lower of current fair market value or book value promptly after the property comes off-lease.

12 CFR 23.5—Recordkeeping: A national bank may engage in two types of lease financing. First, a national bank may acquire tangible or intangible personal property for purposes of lease financing if the lease serves as the functional equivalent of a loan. There is no aggregate volume limitation on a bank's investment in personal property that it leases pursuant to the foregoing authority. Second, a national bank may acquire tangible personal property for purposes of lease financing up to 10 percent of the assets of the bank. Section 23.5 requires that if a bank enters into both types of leases, its records must distinguish between the two types of leases.

National banks need these information collections to ensure that they conduct their operations in a safe and sound manner and in accordance with Federal banking statutes and regulations. These information collections also provide needed information for examiners and protections for banks. The OCC uses this information to verify compliance.

Type of Review: Extension, without change, of a currently approved collection.

Affected Public: Businesses or other for-profit.

Estimated Number of Respondents: 580.

Estimated Total Annual Responses: 625.

Frequency of Response: On occasion.

Estimated Total Annual Burden: 1,610 burden hours.

OCC Contact: Jessie Dunaway or Camille Dixon, (202) 874-5090, Legislative and Regulatory Activities Division, OMB No. 1557-0206, Office of the Comptroller of the Currency, 250 E Street SW, Washington, DC 20219.

OMB Reviewer: Alexander Hunt, (202) 395-7340, Paperwork Reduction Project 1557-0206, Office of Management and Budget, Room 10226, New Executive Office Building, Washington, DC 20503.

Comments: Your comment will become a matter of public record. You are invited to comment on:

(a) Whether the collection of information is necessary for the proper performance of the functions of the agency, including whether the information has practical utility;

(b) Whether the OCC's burden estimate is accurate;

(c) Ways to enhance the quality, utility, and clarity of the information to be collected;

(d) Ways to minimize the burden of the collection on respondents, including through the use of automated collection techniques or other forms of information technology; and

(e) Whether the OCC's estimates of the capital or startup costs and costs of operation, maintenance, and purchase of services to provide information are accurate.

Dated: June 30, 2000.
Mark J. Tenhundfeld,
Assistant Director,, Legislative & Regulatory Activities Division.

[FR Doc. 00-17232 Filed 7-6-00; 8:45 am]

BILLING CODE 4810-33-P